DEPARTMENT OF HEALTH AND HUMAN SERVICES

Administration for Children and Families

Submission for OMB Review; Intergovernmental Reference Guide (IRG) (OMB No.: 0970-0209)

AGENCY: Office of Child Support Enforcement, Administration for Children and Families, HHS.

ACTION: Request for public comment.

SUMMARY: The Administration for Children and Families (ACF), Office of Child Support Enforcement (OCSE), is requesting the Office of Management and Budget (OMB) to approve the Intergovernmental Reference Guide (IRG), with content and organizational revisions, for an additional three years. The IRG contains state and tribal child support information that assists state and tribal child support enforcement (CSE) agencies administering their respective programs. The current OMB approval expires on January 31, 2022.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: www.reginfo.gov/public/do/PRAMain. Find this particular information collection by selecting “Currently under 30-day Review—Open for Public Comments” or by using the search function.

SUPPLEMENTARY INFORMATION: Description: The IRG is a centralized and automated repository of state and tribal profiles that contains high-level descriptions of each CSE program. These profiles provide state, tribal, and foreign country CSE agencies with an effective and efficient method for updating and accessing information needed to process intergovernmental child support cases. Fourteen comments received after the 60-day Federal Register publication and comment period have resulted in revisions to the proposed state profile to clarify the content and amend the organizational format. No comments were received regarding the proposed tribal profile organizational changes.

Respondents: State and Tribal Child Support Enforcement Agencies.

Annual Burden Estimates
Information collection instrument | Total number of annual respondents | Number of annual responses per respondent | Average annual burden hour per response | Annual burden hours
IRG: State Profile Guide(states and territories) | 54 | 18 | 0.3 | 292
IRG: Tribal Profile Guide | 62 | 18 | 0.3 | 335

Estimated Total Annual Burden Hours: 627.

Authority: 42 U.S.C. 652(a)(7); 42 U.S.C. 666(f); 45 CFR 301.1; 45 CFR 303.7; and 45 CFR 309.120.

Mary B. Jones,
ACF/OPRE Certifying Officer.

[FR Doc. 2021-24919 Filed 11-15-21; 8:45 am]

BILLING CODE 4184-41-P